DEPARTMENT OF THE INTERIOR

Office of the Secretary

[22XD4523WT DS64950000 DWTFCG000.000000 DP.64920; OMB Control Number 1090-0008]

Agency Information Collection Activities; Website Satisfaction Surveys

AGENCY: Office of the Secretary, Office of Employee Development, Federal Consulting Group, Interior.

ACTION: Notice of information collection; request for comment.

SUMMARY: In accordance with the Paperwork Reduction Act of 1995, the Office of Employee Development, Federal Consulting Group is proposing to renew an information collection.

DATES: Interested persons are invited to submit comments on or before September 27, 2024.

ADDRESSES: Written comments and recommendations for the proposed information collection should be sent within 30 days of publication of this notice to www.reginfo.gov/public/do/PRAMain. Find this particular information collection by selecting “Currently under Review—Open for Public Comments” or by using the search function. Please provide a copy of your comments to Federal Consulting Group, Attention: Lucy Adams, 1849 C St. NW MS 4320, Washington, DC 20240-0001, or via email to Luciana_adams@ios.doi.gov. Please reference OMB Control Number 1090-0008 in the subject line of your comments.

FOR FURTHER INFORMATION CONTACT: To request additional information about this ICR, contact Federal Consulting Group, Attention: Lucy Adams, 1849 C St. NW MS 4320, Washington, DC 20240-0001, or via email to Luciana_adams@ios.doi.gov.or by telephone at 202-513-7679. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 6, 2024 (89 FR 48440). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Office of Management and Budget regulation at 5 CFR 1320, which implements the provisions of the Paperwork Reduction Act of 1995 (44 U.S.C. 3501 et seq.), requires that interested members of the public and affected agencies have an opportunity to comment on information collection and recordkeeping activities [see 5 CFR 1320.8(d)]. The Office of Employee Development, Federal Consulting Group has submitted a request to Office of Management and Budget to renew its approval of this collection of information for three years.

This information collection activity provides a means to consistently assess, benchmark, and improve customer satisfaction with Federal government agency websites within the Executive Branch. The Federal Consulting Group of the Department of the Interior serves as the executive agent for this assessment to federal agencies.

The Website Satisfaction Surveys will be completed subject to the Privacy Act of 1974, Public Law 93-579, December 31, 1974 (5 U.S.C. 522a). The agency information collection will be used solely for the purpose of the survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly selected respondents from among established systems of records provided for such routine uses.

There is no other agency or organization able to provide the information accessible through the surveying approach used in this information collection. Further, the information will enable Federal agencies to determine customer satisfaction metrics with discrimination capability across variables. Thus, this information collection will assist Federal agencies in making the best use of resources in a targeted manner to improve service to the public.

This survey asks no questions of a sensitive nature, such as sexual behavior and attitudes, religious beliefs, or other matters that are commonly considered private.

An agency may not conduct or sponsor, and a person is not required to respond to, a collection of information unless it is operating under a currently valid Office of Management and Budget control number. The Office of Management and Budget control number for this collection is 1090-0008. The control number will be displayed on the surveys used. For expeditious administration of the surveys, the expiration date will not be displayed on the individual instruments. Response to the surveys is voluntary.

Title of Collection: Website Satisfaction Surveys.

OMB Control Number: 1090-0008.

Form Number: None.

Type of Review: Extension of a currently approved collection.

Respondents/Affected Public: Individuals, Business, and State, Local, or Tribal Governments who have utilized Federal Government services.

Estimated Completion Time per Response: Participation by Federal agencies will vary as new websites are added or deleted. However, based on our experience from the previous three-year approval period, the number of surveys has been very consistent with little change and estimate for the next three years are as follows:

Average Expected Annual Number of Customer Satisfaction Surveys: 250 with 5,000 respondents per survey.

Total Estimated Number of Annual Responses: 1,250,000 Responses.

Total Estimated Number of Annual Burden Hours: 60,764 hours.

Respondent's Obligation: Voluntary.

Frequency of Collection: Once per survey.

Total Estimated Annual Non hour Burden Cost: None.

An agency may not conduct or sponsor and a person is not required to respond to a collection of information unless it displays a currently valid OMB control number.

The authority for this action is the Paperwork Reduction Act of 1995 (44 U.S.C. 3501 et seq.).

Jessica Reed,
Director, Federal Consulting Group.

[FR Doc. 2024-19252 Filed 8-27-24; 8:45 am]

BILLING CODE 4334-63-P